DEPARTMENT OF ENERGY

Energy Information Administration

Agency Information Collection Extension

AGENCY: U.S. Energy Information Administration (EIA), U.S. Department of Energy (DOE).

ACTION: Notice and request for OMB review and comment.

SUMMARY: EIA has submitted an information collection request to OMB for extension under the provisions of the Paperwork Reduction Act of 1995. The information collection requests a three-year extension of its Standard Contract for Disposal of Spent Nuclear Fuel and/or High-Level Radioactive Waste, OMB Control Number 1901-0260. The proposed collection will extend Form NWPA-830G, “Appendix G—Standard Remittance Advice for Payment of Fees (including Annex A to Appendix G), which is part of the Standard Contract. Although DOE has ceased collection of the Spent Nuclear Fuel Disposal Fee, it has (through its Office of the General Counsel) directed EIA to continue activities associated with the collection and verification of net electricity generation data and estimation of the spent nuclear fuel disposal fees that would otherwise accrue from this generation.

DATES: Comments regarding this proposed information collection must be received on or before January 4, 2016. If you anticipate that you will be submitting comments, but find it difficult to do so within the period of time allowed by this notice, please advise the DOE Desk Officer at OMB of your intention to make a submission as soon as possible. The Desk Officer may be telephoned at 202-395-4718.

ADDRESSES: Written comments may be sent to the DOE Desk Officer, Office of Information and Regulatory Affairs, Office of Management and Budget, New Executive Office Building, Room 10102, 735 17th Street NW., Washington, DC 20503 and to Marta Gospodarczyk, Office of Electricity, Coal, Nuclear, and Renewables Analysis, EI-34, Forrestal Building, U.S. Department of Energy, 1000 Independence Avenue, Washington, DC 20585. Alternatively, Ms. Gospodarczyk may be contacted by telephone at 202-586-0527 or email (marta.gospodarczyk@eia.gov).

FOR FURTHER INFORMATION CONTACT: Requests for additional information or copies of any forms and instructions should be directed to Ms. Gospodarczyk at the address listed above. The Form NWPA-830G, “Appendix G—Standard Remittance Advice for Payment of Fees,” may also be viewed here: http://www.eia.gov/survey/form/nwpa_830g/proposed/appendix_g.pdf, and Annex A to Appendix G here: http://www.eia.gov/survey/form/nwpa_830g/proposed/annex_a_appendix_g.pdf.

SUPPLEMENTARY INFORMATION: This information collection request contains:

(1) OMB No.: 1901-0260;

(2) Information Collection Request Title: Standard Contract for Disposal of Spent Nuclear Fuel and/or High-Level Radioactive Waste;

(3) Type of Request: Three-year extension;

(4) Purpose: The Federal Energy Administration Act of 1974 (15 U.S.C. 761 et seq.) and the DOE Organization Act (42 U.S.C. 7101 et seq.) require EIA to carry out a centralized, comprehensive, and unified energy information program. This program collects, evaluates, assembles, analyzes, and disseminates information on energy resource reserves, production, demand, technology, and related economic and statistical information. This information is used to assess the adequacy of energy resources to meet near and longer term domestic demands.

EIA, as part of its effort to comply with the Paperwork Reduction Act of 1995 (44 U.S.C. 3501 et seq.), provides the general public and other federal agencies with opportunities to comment on collections of energy information conducted by or in conjunction with EIA. Also, EIA will later seek approval for this collection by OMB under Section 3507(a) of the Paperwork Reduction Act of 1995.

The Nuclear Waste Policy Act of 1982 (42 U.S.C. 10101 et seq.) required that DOE enter into Standard Contracts with all generators or owners of spent nuclear fuel and high-level radioactive waste of domestic origin. Form NWPA-830G, “Appendix G—Standard Remittance Advice for Payment of Fees,” including Annex A to Appendix G, is an Appendix to this Standard Contract. Appendix G and Annex A to Appendix G are commonly referred to as Remittance Advice (RA) forms. RA forms must be submitted quarterly by generators and owners of spent nuclear fuel and high-level radioactive waste of domestic origin who signed the Standard Contract. Appendix G is designed to serve as the source document for entries into DOE accounting records to transmit data to DOE concerning payment of fees into the Nuclear Waste Fund for spent nuclear fuel and high-level waste disposal. Annex A to Appendix G is used to provide data on the amount of net electricity generated and sold, upon which these fees are based.

(5) Annual Estimated Number of Respondents: 100;

(6) Annual Estimated Number of Total Responses: 400;

(7) Annual Estimated Number of Burden Hours: 2,000;

(8) Annual Estimated Reporting and Recordkeeping Cost Burden: EIA estimates that there are no additional costs to respondents associated with the surveys other than the costs associated with the burden hours. The information is maintained in the normal course of business. The cost of burden hours to the respondents is estimated to be $143,940 ($71.97 per hour × 2,000 hours). Therefore, other than the cost of burden hours, EIA estimates that there are no additional costs for generating, maintaining and providing the information.

Statutory Authority: Federal Energy Administration Act of 1974 (15 U.S.C. 761 et seq.); DOE Organization Act (42 U.S.C. 7101 et seq.); and Nuclear Waste Policy Act of 1982 (42 U.S.C. 10101 et seq.).

Issued in Washington, DC, on November 25, 2015.
Nanda Srinivasan,
Director, Office of Survey Development and Statistical Integration, U.S. Energy Information Administration.

[FR Doc. 2015-30658 Filed 12-3-15; 8:45 am]

BILLING CODE 6450-01-P